DEPARTMENT OF TRANSPORTATION

Surface Transportation Board

[STB Finance Docket No. 34701]

CSX Transportation, Inc.—Trackage Rights Exemption—Illinois Central Railroad Company

Pursuant to a written trackage rights agreement dated April 22, 2005, Illinois Central Railroad Company, a wholly owned subsidiary of Canadian National Railway Company (collectively, CN), has agreed to grant overhead trackage rights to CSX Transportation, Inc. (CSXT) over a line of railroad extending from (1) CN's Aulon Interlocking, milepost 390 on the Fulton Subdivision to milepost 11.00 on the Yazoo Subdivision, approximately 200 feet past the south leg of the wye switch into the Memphis Intermodal Terminal (Memphis Facility), in Frank C. Pidgeon Industrial Park, including CN's yard lead and yard tracks required to access the Memphis Facility, a distance of approximately 12 miles; and (2) CN's milepost 8.7 located on the track known as the old Birmingham Steel lead (owned by the Shelby County Port Authority and operated by CN) continuing westward to and beyond the new turnout to the Memphis Facility, a distance of approximately one thousand (1000) feet, all in the State of Tennessee.

The parties state that consummation of the transaction was scheduled to occur on May 10, 2005.

The purpose of the trackage rights is to allow CSXT and its affiliate, CSX Intermodal, to achieve operating efficiencies and to improve customer rail service by the movement of intermodal traffic between the Aulon Interlocking and the Memphis Facility.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the exemption.

An original and 10 copies of all pleadings, referring to STB Finance Docket No. 34701, must be filed with the Surface Transportation Board, 1925 K Street, NW., Washington, DC 20423-0001. In addition, a copy of each pleading must be served on J. Michael Cavanaugh, Holland & Knight, 2099 Pennsylvania Ave., NW., Suite 100, Washington, DC 20006.

Board decisions and notices are available on our Web site at http://www.stb.dot.gov.

Decided: May 10, 2005.
By the Board, David M. Konschnik, Director, Office of Proceedings.
Vernon A. Williams,
Secretary.

[FR Doc. 05-9788 Filed 5-18-05; 8:45 am]

BILLING CODE 4915-01-P